DEPARTMENT OF ENERGY

Federal Energy Regulatory Commission

[Docket No. RP95-408-048]

Columbia Gas Transmission Corporation; Notice of Compliance Filing

December 24, 2002.

Take notice that on December 17, 2002, Columbia Gas Transmission Corporation (Columbia) tendered for filing as part of its FERC Gas Tariff, Second Revised Volume No. 1, the following revised tariff sheets bearing a proposed effective date of January 1, 2003:

Sixty-first Revised Sheet No. 25

Sixty-first Revised Sheet No. 26

Sixty-first Revised Sheet No. 27

Twenty-seventh Revised Sheet No. 30A

Columbia states that this filing is being submitted pursuant to Stipulation I, Article I, section E, True-up Mechanism, of the settlement (settlement) in Docket No. RP95-408 et al., approved by the Commission on April 17, 1997 (79 FERC ¶61,044 (1997)). Under the approved section of the settlement, Columbia is required to true-up its collections pursuant to the settlement component for 12-month periods commencing November 1, 1996, and ending October 31, 2004. The sixth 12-month period (period VI) ended October 31, 2002. Columbia is making this true-up filing in compliance with the settlement to return a net over-recovery of $3,079,361 for period VI, which includes interest and the true-up of the period V settlement component adjustment, through an adjustment to the settlement component of the base rates for the period January 1, 2003, through October 31, 2003.

Columbia states that copies of its filing have been mailed to all firm customers, interruptible customers, and affected state commissions.

Any person desiring to protest said filing should file a protest with the Federal Energy Regulatory Commission, 888 First Street, NE., Washington, DC 20426, in accordance with Section 385.211 of the Commission's rules and regulations. All such protests must be filed in accordance with section 154.210 of the Commission's regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For Assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: December 30, 2002.

Linwood A. Watson, Jr.,
Deputy Secretary.

[FR Doc. 02-32973 Filed 12-27-02; 8:45 am]

BILLING CODE 6717-01-P